DEPARTMENT OF COMMERCE

International Trade Administration

A-580-839

Certain Polyester Staple Fiber from Korea: Final Results of Antidumping Duty Administrative Review and Partial Rescission of Antidumping Duty Administrative Review

AGENCY: Import Administration, International Trade Administration, Department of Commerce.

SUMMARY: On May 31, 2006, the Department of Commerce published the preliminary results of the administrative review of the antidumping duty order on certain polyester staple fiber from the Republic of Korea. We gave interested parties an opportunity to comment on the preliminary results. Based on our analysis of the comments received and an examination of our calculations, we have made certain changes for the final results. The final weighted-average dumping margin for Huvis Corporation is listed below in the “Final Results of the Review” section of this notice.

EFFECTIVE DATE: October 4, 2006.

FOR FURTHER INFORMATION CONTACT: Yasmin Bordas or Andrew McAllister, Office 1, AD/CVD Operations, Import Administration, International Trade Administration, U.S. Department of Commerce, 14th Street and Constitution Avenue, NW, Washington DC 20230; telephone: (202) 482-3813 or (202) 482-1174, respectively.

SUPPLEMENTARY INFORMATION:

Background

On May 31, 2006, the Department of Commerce (“the Department”) published Certain Polyester Staple Fiber from Korea: Preliminary Results of Antidumping Duty Administrative Review, Intent to Rescind, and Partial Rescission of Antidumping Duty Administrative Review, 71 FR 30867 (May 31, 2006) (“Preliminary Results”) in the Federal Register.

We invited parties to comment on the Preliminary Results. On June 30, 2006, Arteva Specialties S.a.r.l.; d/b/a KoSa; and Wellman, Inc. (collectively, “the petitioners”); and the respondent, Huvis Corporation (“Huvis”), filed case briefs. On July 7, 2006, the petitioners and Huvis filed rebuttal briefs. On July 26, 2006, consistent with 19 CFR 351.301(b)(2) and 19 CFR 351.104(a)(2)(ii)(A), we rejected the petitioners' rebuttal brief because it contained untimely filed new information. On July 27, 2006, we received a revised rebuttal brief from the petitioners.

Scope of the Order

For the purposes of this order, the product covered is certain polyester staple fiber (“PSF”). PSF is defined as synthetic staple fibers, not carded, combed or otherwise processed for spinning, of polyesters measuring 3.3 decitex (3 denier, inclusive) or more in diameter. This merchandise is cut to lengths varying from one inch (25 mm) to five inches (127 mm). The merchandise subject to this order may be coated, usually with a silicon or other finish, or not coated. PSF is generally used as stuffing in sleeping bags, mattresses, ski jackets, comforters, cushions, pillows, and furniture. Merchandise of less than 3.3 decitex (less than 3 denier) currently classifiable under the Harmonized Tariff Schedule of the United States (“HTSUS”) at subheading 5503.20.00.25 is specifically excluded from this order. Also specifically excluded from this order are polyester staple fibers of 10 to 18 denier that are cut to lengths of 6 to 8 inches (fibers used in the manufacture of carpeting). In addition, low-melt PSF is excluded from this order. Low-melt PSF is defined as a bi-component fiber with an outer sheath that melts at a significantly lower temperature than its inner core.

The merchandise subject to this order is currently classifiable in the HTSUS at subheadings 5503.20.00.45 and 5503.20.00.65. Although the HTSUS subheadings are provided for convenience and customs purposes, the written description of the merchandise under the order is dispositive.

Period of Review

The period of review (“POR”) is May 1, 2004, through April 30, 2005.

Analysis of Comments Received

All issues raised in the case and rebuttal briefs by parties to this review are addressed in the September 28, 2006, Issues and Decision Memorandum for the Fifth Antidumping Duty Administrative Review of Certain Polyester Staple Fiber from the Republic of Korea (“Decision Memorandum”), which is hereby adopted by this notice. Attached to this notice as an appendix is a list of the issues which parties have raised and to which we have responded in the Decision Memorandum. Parties can find a complete discussion of all issues raised in this review and the corresponding recommendations in this public memorandum, which is on file in the Department's Central Records Unit, Room B-099 of the main Department building (“CRU”). In addition, a complete version of the Decision Memorandum can be accessed directly on the Web at http://ia.ita.doc.gov/frn. The paper copy and electronic version of the Decision Memorandum are identical in content.

Partial Rescission

In the Preliminary Results, the Department preliminarily rescinded this review with respect to Daehan Synthetic Company, Ltd.¹ (“Daehan”), pursuant to 19 CFR 351.213(d)(3). The Department confirmed using CBP data that Daehan did not ship subject merchandise to the United States during the POR. In addition, we did not receive any evidence from the petitioners that Daehan shipped subject merchandise to the United States during the POR. Therefore, pursuant to 19 CFR 351.213(d)(3), we are rescinding this review with respect to Daehan.

¹ On June 30, 2005, we initiated an administrative review of the antidumping duty order of PSF from Korea with respect to Daehan Synthetic Company, Ltd. On September 5, 2005, in response to the Department's antidumping duty questionnaire, we were notified by Daehan Synthetic Fiber, Co., Ltd. that Daehan Synthetic Fiber, Co., Ltd. had no shipments during the POR. See Memorandum from Yasmin Bordas to File, “Questionnaire Response from Daehan Synthetic Fiber, Co., Ltd.,” dated March 15, 2006. The Department confirmed with U.S. Customs and Border Protection (“CBP”) data that no shipments of subject merchandise were exported by either Daehan Synthetic Company, Ltd. or Daehan Synthetic Fiber, Co., Ltd. during the POR.

Fair Value Comparisons

To determine whether sales of PSF from Korea to the United States were made at less than normal value, we compared export price (“EP”) to the NV. We calculated EP, NV, constructed value (“CV”), and the cost of production (“COP”), based on the same methodologies used in the Preliminary Results, with the following exceptions:

• In the Preliminary Results, to make a determination of value pursuant to the major input rule, the Department used the market price of middle-terephthalic acid (“MTA”) as a proxy for the missing market price of qualified terephthalic acid (“QTA”). However, the record of this administrative review does not support a finding of interchangeability between these major inputs. Therefore, in accordance with sections 773(f)(3) and 776(a) of the Tariff Act of 1930, as amended (“the Act”), we have relied on facts available to make a determination of market value. For the final results, we added the supplier's profit rate, which we calculated from the supplier's fiscal year ending 2004 financial statements, to the supplier's COP to make a value determination for the missing market prices of these major inputs. We made this adjustment to both QTA and purified terephthalic acid because Huvis did not provide requested market prices for either input, though both are sourced from the same affiliated supplier. See Memorandum from Team, through Brandon Farlander, to the File, “Final Results Calculation Memorandum for Huvis Corporation,” dated September 28, 2006 (“Huvis Calculation Memorandum”); Decision Memorandum, at Comment 1.

• In the computer program used to calculate NV, we have corrected a customer code for one of Huvis's home market customers. We have also corrected the computer code used to calculate Huvis's selling, general and administrative expense ratio and Huvis's financial expense ratio. See Huvis Calculation Memorandum; Decision Memorandum, at Comment 6.

Results of the COP Test

Pursuant to section 773(b)(2)(C)(i) of the Act, where less than 20 percent of sales of a given product were at prices less than the COP, we did not disregard any below-cost sales of that product because we determined that the below-cost sales were not made in “substantial quantities.” Where 20 percent or more of a respondent's sales of a given product during the POR were at prices less than the COP, we determined such sales to have been made in “substantial quantities.” See section 773(b)(2)(C) of the Act. The sales were made within an extended period of time in accordance with section 773(b)(2)(B) of the Act, because we examined below-cost sales occurring during the entire POR. In such cases, because we compared prices to POR-average costs, we also determined that such sales were not made at prices which would permit recovery of all costs within a reasonable period of time, in accordance with section 773(b)(2)(D) of the Act.

We found that, for certain products, more than 20 percent of Huvis's comparison market sales were at prices less than the COP and, thus, the below-cost sales were made within an extended period of time in substantial quantities. In addition, these sales were made at prices that did not provide for the recovery of costs within a reasonable period of time. We therefore excluded these sales and used the remaining sales, if any, as the basis for determining NV, in accordance with section 773(b)(1) of the Act.

Final Results of the Review

We find that the following percentage margin exists for the period May 1, 2004, through April 30, 2005:

Exporter/manufacturer | Weighted-average margin percentage
Huvis Corporation | 4.65

Assessment Rates

The Department shall determine, and CBP shall assess, antidumping duties on all appropriate entries.

In its September 2, 2006, Sections B-D Questionnaire Response, Huvis submitted evidence demonstrating that it was the importer of record for certain of its POR sales. We examined the CBP entry documentation submitted by Huvis and tied it to the U.S. sales listing. We noted that Huvis was indeed the importer of record for certain sales. Therefore, for purposes of calculating the importer-specific assessment rates, we have treated Huvis as the importer of record for certain POR shipments. Pursuant to 19 CFR 351.212(b)(1), for all sales where Huvis is the importer of record, Huvis submitted the reported entered value of the U.S. sales and we have calculated an importer-specific assessment rate based on the ratio of the total amount of antidumping duties calculated for the examined sales to the total entered value of those sales.

Regarding sales where Huvis was not the importer of record, we note that Huvis did not report the entered value for the U.S. sales in question. Accordingly, we have calculated importer-specific assessment rates, on a per kilogram basis, for the merchandise in question by aggregating the dumping margins calculated for all U.S. sales to each importer and dividing this amount by the total quantity of those sales. To determine whether the duty assessment rates were de minimis, in accordance with the requirement set forth in 19 CFR 351.106(c)(2), we calculated importer-specific ad valorem ratios based on the estimated entered value.

The Department clarified its “automatic assessment” regulation on May 6, 2003 (68 FR 23954). This clarification will apply to entries of subject merchandise during the period of review produced by Huvis for which Huvis did not know the merchandise it sold to an intermediary (e.g., a reseller, trading company, or exporter) was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

For Daehan, in the event any entries were made during the POR through intermediaries under the CBP case number for Daehan, the Department is instructing CBP to liquidate these entries and to assess antidumping duties at the all-others rate in effect at the time of entry, consistent with the May 6, 2003 clarification discussed above.

The Department will issue appropriate assessment instructions to CBP within 15 days of publication of these final results of review.

Cash Deposit Rates

The following antidumping duty deposits will be required on all shipments of PSF from Korea entered, or withdrawn from warehouse, for consumption, effective on or after the publication date of the final results of this administrative review, as provided by section 751(a)(1) of the Act: (1) the cash deposit rates for the reviewed company will be the rate listed above (except no cash deposit will be required if a company's weighted-average margin is de minimis, i.e., less than 0.5 percent); (2) for previously reviewed or investigated companies not listed above, the cash deposit rate will continue to be the company-specific rate published for the most recent period; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 7.91 percent, the “all-others” rate established in Certain Polyester Staple Fiber from the Republic of Korea: Notice of Amended Final Determination and Amended Order Pursuant to Final Court Decision, 68 FR 74552 (December 24, 2003). These cash deposit requirements shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these results and this notice in accordance with sections 751(a)(1) and 777(i)(1) of the Act.

Dated: September 28, 2006.
Stephen J. Claeys,
Acting Assistant Secretary for Import Administration.

APPENDIX I

List of Comments in the Decision Memorandum

Comment 1: Major Inputs

Comment 2: Overseas Office Expenses

Comment 3: Inclusion of Extraordinary Losses in the G&A Calculation

Comment 4: Interest Earned On Retirement Insurance

Comment 5: Credit Period Recalculation

Comment 6: Computer Program Errors

[FR Doc. E6-16391 Filed 10-3-06; 8:45 am]

BILLING CODE 3510-DS-S